DEPARTMENT OF HOMELAND SECURITY

Coast Guard

33 CFR Part 100

[Docket No. USCG-2016-0580]

Special Local Regulations; North Charleston Fireworks Display

AGENCY: Coast Guard, DHS.

ACTION: Notice of enforcement of regulation.

SUMMARY: The Coast Guard will enforce the North Charleston Fireworks Special Local Regulation from 8:45 p.m. through 10:15 p.m. on July 4, 2016. This action is necessary to ensure safety of life on navigable waters of the United States during the Fourth of July Fireworks Displays. During the enforcement period, and in accordance with previously issued special local regulations, vessels may not enter, transit through, anchor in, or remain within the designated area unless authorized by the Captain of the Port Charleston or a designated representative.

DATES: The regulation for the City of North Charleston Fireworks under COTP Zone Charleston in 33 CFR 100.701, Table 1, will be enforced from 8:45 p.m. through 10:15 p.m. on July 4, 2016.

FOR FURTHER INFORMATION CONTACT: If you have questions on this rule, call or email Lieutenant John Downing, Sector Charleston Office of Waterways Management, Coast Guard; telephone 843-740-3184, email John.Z.Downing@uscg.mil.

SUPPLEMENTARY INFORMATION: The Coast Guard will enforce the special local regulation for the North Charleston Fireworks Display in 33 CFR 100.701 Table 1 from 8:45 p.m. through 10:15 p.m. on July 4, 2016.

On July 4, 2016, South Carolina; The City of North Charleston is sponsoring the North Charleston Fireworks on the Charleston Harbor, South Carolina.

Under the provisions of 33 CFR 100.701, all persons and vessels are prohibited from entering the regulated areas unless permission to enter has been granted by the Captain of the Port Charleston or designated representatives. This action is to provide enforcement action of regulated area that will encompass portions of the navigable waterways. Spectator vessels may safely transit outside the regulated areas, but may not anchor, block, loiter in, or impede the transit of official patrol vessels. The Coast Guard may be assisted by other Federal, State, or local law enforcement agencies in enforcing these regulations.

This notice of enforcement is issued under authority of 33 CFR 100.701 and 5 U.S.C. 552(a).

The Coast Guard will provide notice of the regulated area by Local Notice to Mariners, Broadcast Notice to Mariners, and on-scene designated representatives. If the COTP Charleston determines that the regulated area need not be enforced for the full duration stated in this publication, he or she may use a Broadcast Notice to Mariners to grant general permission to enter the regulated area.

Dated: June 20, 2016.
G.L. Tomasulo,
Captain, U.S. Coast Guard, Captain of the Port Charleston.

[FR Doc. 2016-14986 Filed 6-23-16; 8:45 am]

BILLING CODE 9110-04-P